DEPARTMENT OF ENERGY

Federal Energy Regulatory Commission

[Docket No. RC11-6-013]

North American Electric Reliability Corporation; Notice of Staff Review of Enforcement Programs

Commission staff coordinated with the staff of the North American Electric Reliability Corporation (NERC) to conduct the annual oversight of the Find, Fix, Track and Report (FFT) program, as outlined in the March 15, 2012 Order,¹ and the Compliance Exception (CE) Program, as proposed by NERC's September 18, 2015 annual Compliance Filing and accepted by delegated letter order.²

¹ North American Electric Reliability Corp., 138 FERC ¶ 61,193, at P 73 (2012) (discussing Commission plans to survey a random sample of FFTs submitted each year to gather information on how the FFT program is working).

² North American Electric Reliability Corp., Docket No. RC11-6-004, at 1 (Nov. 13, 2015) (delegated letter order) (accepting NERC's proposal to combine the evaluation of CEs with the annual sampling of FFTs).

Commission staff reviewed a sample of 29 FFT noncompliances out of 191 FFT noncompliances posted by NERC between October 2020 and September 2021 and a sample of 32 CE noncompliances out of 1,050 CE noncompliances posted by NERC between October 2020 and September 2021.

Commission staff found that the FFT and CE programs are meeting expectations, with limited exceptions. Specifically, Commission staff identified one instance where the CE would be more appropriate as an FFT with a moderate risk. Staff also noted in two instances of FFT that the originally posted description of the noncompliances were incomplete. The Regional Entities appropriately included 60 of the 61 samples in the FFT and CE programs, and all 61 FFTs and CEs have been adequately remediated and the root cause of each noncompliance was clearly identified. Commission staff also reviewed the supporting information for these FFTs or CEs and agreed with the final risk determinations for 60 of the 61 noncompliances, which clearly identified the factors affecting the risk prior to mitigation (such as potential and actual risk) and actual harm.

Finally, Commission staff noted that the FFTs and CEs sampled did not contain any material misrepresentations by the registered entities.

Dated: June 29, 2022.
Kimberly D. Bose,
Secretary.

[FR Doc. 2022-14331 Filed 7-5-22; 8:45 am]

BILLING CODE 6717-01-P